NATIONAL SCIENCE FOUNDATION

Agency Information Collection Activities: Comment Request.

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 75 FR 48369, and no significant comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send e-mail to splimpto@nsf.gov. Individuals who use a telecommunications device for the deaf (TDD) may call the Federal Information Relay Service (FIRS) at 1-800-877-8339, which is accessible 24 hours a day, 7 days a week, 365 days a year (including federal holidays).

Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title of Collection: A Social Network Analysis of the National Science Foundation's Research and Evaluation on Education in Science and Engineering (REESE) and Discovery Research K-12 (DR K-12) Programs.

OMB Approval Number: 3145-NEW.

Type of Request: Intent to seek approval to establish an information collection for three years.

Proposed Project: This study will assess the linkages, impacts, influences of NSF's REESE and DRK-12 programs. The primary objectives of the study are to conduct a social network analysis of the DR-K12 and REESE programs to understand the impact and influence of each program and whether there are links between the two programs and to other NSF programs. The findings will provide valuable information concerning the impacts and influences of the grant and grantees and whether the REESE and DRK-12 programs influence broader American society.

Frequency of Response: Once.

Affected Public: None.

Type of Respondents: REESE and DRK-12 grantees. There are no Capital Costs to report.

Estimated Number of Respondents: 1325

Estimated Number of Responses per Respondent: 1

Average Burden Hours per Response: .33

Estimated Total Annual Burden Hours Requested: 437.25 and the annualized cost to respondents is estimated at $14,534.19. Table l and Table 2, respectively, present data concerning the burden hours and cost burdens for this data collection.

Table 1—Annualized Estimate of Hour Burden
Type of respondents | Number of respondents | Frequency of response | Average time for response (hr) | Total hour burden *
Grantees | 1,325 | 1 | .33 | $437.25
Total | 1,325 | 1 | .33 | 437.25
* Total Burden = N Respondents * Response Frequency * (minutes to complete/60)

Table 2—Annualized Cost to Respondents
Type of respondents | Number of respondents | Response frequency | Approx. hourly wage rate | Total respondent cost **
Grantee | 1,325 | 1 | $33.24 | $14,534.19
Total | 1,325 | 1 | 33.24 | 14,534.19
** Total Respondent Cost = Total Hour Burden * Hourly Wage Rate.

Dated: November 12, 2010.
Suzanne H. Plimpton,
Reports Clearance Officer, National Science Foundation.

[FR Doc. 2010-28958 Filed 11-16-10; 8:45 am]

BILLING CODE 7555-01-P